DEPARTMENT OF TRANSPORTATION

Federal Railroad Administration

[Docket No. FRA-2010-0030]

Massachusetts Bay Transportation Authority's Request for Approval To Begin Field Testing on Its Positive Train Control Network

AGENCY: Federal Railroad Administration (FRA), Department of Transportation (DOT).

ACTION: Notice of availability and request for comments.

SUMMARY: This document provides the public with notice that, on April 11, 2023, the Massachusetts Bay Transportation Authority (MBTA) submitted a request to field test its trains that have been equipped with MBTA's Advanced Civil Speed Enforcement System II (ACSES II) technology on its South Coast Rail commuter rail lines. MBTA states that the tests will be performed and operation verified for all ACSES II PTC functions. FRA is publishing this notice and inviting public comment on MBTA's request to test its PTC system.

DATES: FRA will consider comments received by June 26, 2023. FRA may consider comments received after that date to the extent practicable and without delaying implementation of valuable or necessary testing on a PTC system.

ADDRESSES:

Comments: Comments may be submitted by going to https://www.regulations.gov and following the online instructions for submitting comments.

Instructions: All submissions must include the agency name and the applicable docket number. The relevant PTC docket number for this host railroad is Docket No. FRA-2010-0030. For convenience, all active PTC dockets are hyperlinked on FRA's website at https://railroads.dot.gov/research-development/program-areas/train-control/ptc/railroads-ptc-dockets. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: In general, Title 49 United States Code (U.S.C.) Section 20157(h) requires FRA to certify that a host railroad's PTC system complies with Title 49 Code of Federal Regulations (CFR) part 236, subpart I, before the technology may be operated in revenue service. On June 30, 2020, FRA certified MBTA's ACSES II PTC system under 49 CFR 236.1015 and 49 U.S.C. 20157(h). Pursuant to 49 CFR 236.1035, a railroad must obtain FRA's approval before field testing an uncertified PTC system, or a product of an uncertified PTC system, or any regression testing of a certified PTC system on the general rail system. See 49 CFR 236.1035(a). There are three stages of testing for which approval is being requested, starting with track database validation, followed by pre-certification and integration testing, and the final stage involving test results and documentation completion. MBTA's test request contains the required information, including a complete description of MBTA's Concept of Operations and its specific test procedures, including the measures that will be taken to ensure safety during testing, are available for review online at https://www.regulations.gov in Docket No. FRA-2010-0030.

Interested parties are invited to comment on MBTA's Test Request by submitting written comments or data. During FRA's review of this railroad's request, FRA will consider any comments or data submitted within the timeline specified in this notice and to the extent practicable, without delaying testing of valuable or necessary modifications to a PTC system. See 49 CFR 236.1035. Under 49 CFR 236.1035, FRA maintains the authority to approve, approve with conditions, or deny a railroad's test request at FRA's sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2023-08746 Filed 4-25-23; 8:45 am]

BILLING CODE 4910-06-P